DEPARTMENT OF TRANSPORTATION

Federal Aviation Administration

14 CFR Part 39

[Docket No. FAA-2005-20222; Directorate Identifier 2004-NM-230-AD; Amendment 39-14041; AD 2005-07-17]

RIN 2120-AA64

Airworthiness Directives; Bombardier Model DHC-8-102, -103, -106, -201, -202, -301, -311, and -315 Airplanes

AGENCY: Federal Aviation Administration (FAA), Department of Transportation (DOT).

ACTION: Final rule.

SUMMARY: The FAA is adopting a new airworthiness directive (AD) for certain Bombardier Model DHC-8-102, -103, -106, -201, -202, -301, -311, and-315 airplanes. This AD requires revising the airplane flight manual to include applicable procedures to follow when the flightcrew receives abnormal indications of airspeed, altitude, or vertical airspeed. This AD also requires modifying the static system. This AD is prompted by a report of a leak in the static pressure system, which could result in loss of the static systems and consequent erroneous data displayed on the pilot's flight instruments. We are issuing this AD to advise the flightcrew of applicable procedures in the event of abnormal indications of airspeed, altitude, or vertical airspeed; and to prevent leaks in the static system, which could result in the loss of critical flight information that could result in reduced controllability of the airplane or controlled flight into terrain.

DATES: This AD becomes effective May 12, 2005.

The incorporation by reference of a certain publication listed in the AD is approved by the Director of the Federal Register as of May 12, 2005.

ADDRESSES: For service information identified in this AD, contact Bombardier, Inc., Bombardier Regional Aircraft Division, 123 Garratt Boulevard, Downsview, Ontario M3K 1Y5, Canada.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2005-20222; the directorate identifier for this docket is 2004-NM-230-AD.

FOR FURTHER INFORMATION CONTACT: Ezra Sasson, Aerospace Engineer, Systems and Flight Test Branch, ANE-172, FAA, New York Aircraft Certification Office, 1600 Stewart Avenue, suite 410, Westbury, New York 11590; telephone (516) 228-7320; fax (516) 794-5531.

SUPPLEMENTARY INFORMATION: The FAA proposed to amend 14 CFR part 39 with an AD for certain Bombardier Model DHC-8-102, -103, -106, -201, -202, -301, -311, and -315 airplanes. That action, published in the Federal Register on February 1, 2005 (70 FR 5078), proposed to require revising the airplane flight manual (AFM) to include applicable procedures to follow when the flightcrew receives abnormal indications of airspeed, altitude, or vertical airspeed. That action also proposed to require modifying the static system.

Comments

We provided the public the opportunity to participate in the development of this AD. No comments have been submitted on the proposed AD or on the determination of the cost to the public.

Conclusion

We have carefully reviewed the available data and determined that air safety and the public interest require adopting the AD as proposed.

Costs of Compliance

The following table provides the estimated costs for U.S. operators to comply with this AD.

Estimated Costs
Action | Work hours | Average labor rate per hour | Parts | Cost per airplane | Number of U.S.-registered airplanes | Fleet cost
Revise AFM | 1 | $65 | None | $65 | 181 | $11,765
Modify static system | 2 | 65 | 100-200 | 230-330 | 181 | 41,630-59,730

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-07-17 Bombardier, Inc. (Formerly de Havilland, Inc.): Amendment 39-14041. Docket No. FAA-2005-20222; Directorate Identifier 2004-NM-230-AD.

Effective Date

(a) This AD becomes effective May 12, 2005.

Affected ADs

(b) None.

Applicability

(c) This AD applies to Bombardier Model DHC-8-102, -103, -106, -201, -202, -301, -311, and -315 airplanes, certificated in any category; serial numbers 003 through 598 inclusive.

Unsafe Condition

(d) This AD was prompted by a report of a leak in the static pressure system, which could result in loss of the static systems and consequent erroneous data displayed on the pilot's flight instruments. We are issuing this AD to advise the flightcrew of applicable procedures in the event of abnormal indications of airspeed, altitude, or vertical airspeed; and to prevent leaks in the static system, which could result in the loss of critical flight information that could result in reduced controllability of the airplane or controlled flight into terrain.

Compliance

(e) You are responsible for having the actions required by this AD performed within the compliance times specified, unless the actions have already been done.

Revision to Airplane Flight Manual

(f) Within 10 days after the effective date of this AD, revise the Normal and Abnormal Procedures sections of the applicable de Havilland Dash 8 Flight Manual to include the following statement in paragraph 4.11.1 of 4.11 Pitot—Static and Stall Warning System Failures. This may be done by inserting a copy of this AD into the applicable flight manual.

“4.11.1 ABNORMAL INDICATIONS OF AIRSPEED, ALTITUDE AND VERTICAL AIRSPEED.

1. Appropriate STATIC SOURCE selector—ALTERNATE. If switching the STATIC SOURCE selector to ALTERNATE does not correct the abnormal indications:

2. Rely on the flight instruments on the opposite side and land as soon as practicable.”

Note 1: When a statement identical to that in paragraph (f) of this AD has been included in the general revisions of the applicable flight manual, the general revisions may be inserted into the flight manual, and the copy of this AD may be removed from the flight manual.

Modification of the Static System

(g) For airplanes having serial numbers 003 through 590 inclusive: Within 24 months after the effective date of this AD, modify the static system in accordance with Part A and Part C of the Accomplishment Instructions of Bombardier Service Bulletin 8-34-221, Revision ‘A,’ dated September 15, 2003.

(h) For airplanes having serial numbers 591 through 598 inclusive: Within 24 months after the effective date of this AD, modify the static system in accordance with Part B and Part C of the Accomplishment Instructions of Bombardier Service Bulletin 8-34-221, Revision ‘A,’ dated September 15, 2003.

Modifications Done According to Previous Issue of Service Bulletin

(i) Modifications done before the effective date of this AD in accordance with Bombardier Service Bulletin 8-34-221, dated May 27, 2003, are acceptable for compliance with the applicable modifications specified in paragraphs (g) and (h) of this AD.

Alternative Methods of Compliance (AMOCs)

(j) The Manager, New York Aircraft Certification Office, Transport Airplane Directorate, FAA, has the authority to approve AMOCs for this AD, if requested in accordance with the procedures found in 14 CFR 39.19.

Related Information

(k) Canadian airworthiness directive CF-2003-25, dated October 10, 2003, also addresses the subject of this AD.

Material Incorporated by Reference

(l) You must use Bombardier Service Bulletin 8-34-221, Revision ‘A,’ dated September 15, 2003, to perform the actions that are required by this AD, unless the AD specifies otherwise. The Director of the Federal Register approves the incorporation by reference of this document in accordance with 5 U.S.C. 552(a) and 1 CFR part 51. To get copies of the service information, contact Bombardier, Inc., Bombardier Regional Aircraft Division, 123 Garratt Boulevard, Downsview, Ontario M3K 1Y5, Canada. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to: http://www.archives.gov/federal_register/code_of_federal_regulations/ibr_locations.html.

Issued in Renton, Washington, on March 24, 2005.
Ali Bahrami,
Manager, Transport Airplane Directorate, Aircraft Certification Service.

[FR Doc. 05-6687 Filed 4-6-05; 8:45 am]

BILLING CODE 4910-13-P